DEPARTMENT OF TRANSPORTATION

Federal Railroad Administration

[Docket No. FRA-2020-0027-N-40]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) abstracted below to the Office of Management and Budget (OMB) for review and comment. The ICR describes the information collection and its expected burden. On December 1, 2020, FRA published a notice providing a 60-day period for public comment on the ICR.

DATES: Interested persons are invited to submit comments on or before May 7, 2021.

ADDRESSES: Written comments and recommendations for the proposed ICR should be sent within 30 days of publication of this notice to www.reginfo.gov/public/do/PRAMain. Find the particular ICR by selecting “Currently under 30-day Review—Open for Public Comments” or by using the search function.

FOR FURTHER INFORMATION CONTACT: Ms. Hodan Wells, Information Collection Clearance Officer, Office of Railroad Safety, Regulatory Analysis Division, Federal Railroad Administration, telephone: (202) 493-0440, email: Hodan.wells@dot.gov.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On December 1, 2020, FRA published a 60-day notice in the Federal Register soliciting comment on the ICR for which it is now seeking OMB approval. See 85 FR 77337.

On February 1, 2021, the Transportation Trades Department, AFL-CIO (TTD) commented on this ICR. On February 25, 2021, FRA staff met with TTD to discuss its comment. A summary of the discussion is available in the above listed docket. TTD explained its concerns with FRA's proposed revisions to form FRA F 6180.151, namely that the revised form would allow users to voluntarily self-identify as railroad employees. TTD noted that full consideration, and investigation if needed, of the alleged violation should be given to each report regardless of the user's affiliation. TTD questioned the benefits that FRA would receive from having this information and stated that users may not realize that this self-identification is optional. TTD expressed that railroad employees could potentially face employer retaliation by self-identifying as railroad employees when submitting information to FRA through this form. TTD requested that FRA add language to this form, clarifying that this field is voluntary.

On the proposed form, FRA makes clear that members of the public and rail employees are not required to identify themselves or their place or type of employment to report an alleged violation or other safety concern to FRA. Indeed, the form definitively states this at the top and reiterates that no identifying information is required to report, but that identifying information is helpful in assisting FRA staff in assessing the matter and then, if necessary, taking appropriate action. The proposed form provides the following instructions:

Your submission is voluntary and anonymous unless you choose to provide us with your contact information. Choosing not to provide your contact information may affect FRA's ability to follow up with you on the status of the investigation and may prevent FRA from adequately investigating the alleged violation, complaint, or inquiry.

On the proposed form, the optional field for the respondent to identify as a “Public Citizen” or “Railroad Employee” falls under these instructions that clearly state the following:

AVF Collection Questions

* Anonymous submissions are allowed, but FRA strongly encourages at least one type of contact information for follow-up communications.

The optional identifying fields are included to assist FRA in determining if, where, and when an alleged violation may have occurred and what appropriate follow-up actions are necessary to assess and investigate the matter. Further, this optional identifying information is helpful to FRA in assessing trends and patterns of safety violations or concerns over time. The information is not shared outside the agency and is protected to the extent allowed under Federal law. The form can be submitted if any or all the identifying information fields are left blank, so respondents can share as much or as little information as they deem necessary.

FRA determined that its form and the data collection and management process afterward required improvement to assist FRA staff in assessing and then, if necessary, taking appropriate action on alleged violations and other safety inquiries. Further, FRA has reviewed its processes and determined that this form and its revisions would improve FRA's service to the public and assessment of alleged violations and other safety inquiries.

In response to internal feedback that it would be helpful if “Hours of Service” were a standalone category in the “Category of Alleged Violation, Complaint, or Inquiry” drop down menu, FRA has made this change to the form to allow FRA staff to better keep track of Hours of Service violations, complaints, or inquiries. Before OMB decides whether to approve the proposed collection of information, it must provide 30 days for public comment. Federal law requires OMB to approve or disapprove paperwork packages between 30 and 60 days after the 30-day notice is published. 44 U.S.C. 3507(b)-(c); 5 CFR 1320.10(b); see also 60 FR 44978, 44983 (Aug. 29, 1995). OMB believes the 30-day notice informs the regulated community to file relevant comments and affords the agency adequate time to digest public comments before it renders a decision. 60 FR 44983 (Aug. 29, 1995). Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Federal Railroad Administration Alleged Violation and Inquiry Form.¹

¹ FRA is revising the title of OMB Control Number 2130-0590 (formerly titled “Alleged Violation Reporting Form”).

OMB Control Number: 2130-0590.

Abstract: The FRA Alleged Violation and Inquiry Form is a response to section 307(b) of the Rail Safety Improvement Act of 2008, which requires FRA to “provide a mechanism for the public to submit written reports of potential violations of Federal railroad safety and hazardous materials transportation laws, regulations, and orders to the Federal Railroad Administration.” The FRA Alleged Violation and Inquiry Form allows the public to submit alleged violations, complaints, or inquiries directly to FRA. The form allows FRA to collect information necessary to investigate the alleged violation, complaint, or inquiry, and to follow up with the submitting party. FRA may share the information collected with partnering States under its State Rail Safety Participation Program and with law enforcement agencies.

FRA will use the information collected under the form to identify problem areas and take necessary action to prevent potential accidents of the type indicated by the information submitted from occurring.

FRA's proposed revisions to the form include: (1) Adding several dropdown menus for form elements (e.g., type, title, preferred method of contact, position, category of submission, date, time, city, State, and entity involved) so that users can quickly provide complete contact and incident information while having to hand-enter less information; (2) adding a question requesting the users identify if they are members of the public, a railroad employee, or other; and (3) informing users that they will receive an automated response from FRA after the form is submitted. The revisions are designed to make the existing form easier to use and more understandable, and to simplify the collection of information. If users elect to provide any identifying information, it will be protected to the extent allowed under Federal law and FRA will only use this identifying information to follow up with users regarding their submissions. The revised form will ensure that users provide the necessary information so that FRA staff can review and respond more quickly. The revised form also will facilitate FRA's ability to maintain the data collected in a more useful and uniform manner, as the new dropdown boxes will assist FRA in receiving more standardized responses.

Type of Request: Revision of a currently approved information collection.

Affected Public: Public.

Form(s): FRA F 6180.151.

Respondent Universe: Public.

Frequency of Submission: On occasion.

Total Estimated Annual Responses: 600.

Total Estimated Annual Burden: 70 hours.

Total Estimated Annual Burden Hour Dollar Cost Equivalent: $1,890.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Acting Chief Counsel.

[FR Doc. 2021-07182 Filed 4-6-21; 8:45 am]

BILLING CODE 4910-06-P